DEPARTMENT OF HEALTH AND HUMAN SERVICES

Health Resources and Services Administration

Ryan White HIV/AIDS Program, Part C Early Intervention Services Grant Under the Ryan White HIV/AIDS Program

AGENCY: Health Resources and Services Administration, Department of Health and Human Services.

ACTION: Notice of Noncompetitive Single-source Award: Fiscal Year 2017 Ryan White HIV/AIDS Program (RWHAP) Part C Early Intervention Services Program Existing Geographic Service Area (EISEGA).

SUMMARY: To prevent a lapse in comprehensive HIV primary care services for persons living with HIV, HRSA will provide one-time noncompetitive single-source award to Staywell Health Care, Inc. The purpose of the RWHAP Part C EISEGA is to provide HIV primary care in the outpatient setting to targeted low income, underinsured, and uninsured people living with HIV. Pending the availability of appropriated funds, the amount of the fiscal year (FY) 2017 award will be based on the amount of the FY 2016 RWHAP Part C EISEGA award to the relinquishing recipient.

FOR FURTHER INFORMATION CONTACT: CAPT Mahyar Mofidi, DMD, Ph.D., Director, Division of Community HIV/AIDS Programs, HIV/AIDS Bureau, Health Resources and Services Administration, 5600 Fishers Lane, 09N09, Rockville, MD 20857, Phone: (301) 443-2075, Email: mmofidi@hrsa.gov. For media inquiries, contact HRSA's Office of Communications at (301) 443-3376.

SUPPLEMENTARY INFORMATION:

Intended Recipient of the Award: Staywell Health Care, Inc.

Amount of Non-Competitive Award: $426,543.

Period of Funding: April 1, 2017 through March 31, 2018, and pre-award costs from January 1, 2017-March 31, 2017.

CFDA Number: 93.918.

Authority: Section 2651-2667 of the Public Health Service Act, (42 U.S.C. 300ff-51 through 67) and section 2693 of the Public Health Service Act, as amended by the Ryan White HIV/AIDS Treatment Act of 2009 (P.L. 111-87).

Justification: Greater Waterbury Health Network, including Waterbury Hospital Health Center, recently sold all assets to Prospect Medical Holdings. This sale was approved by state regulators and resulted in the organization becoming a for-profit entity on October 1, 2016. The for-profit Waterbury Hospital Health Center is no longer eligible to receive RWHAP Part C EISEGA funds (per Section 2652(a) of the Public Health Service Act). Staywell Health Care, Inc. is recognized by the National Committee for Quality Assurance as a Patient-Centered Medical Home. They provide primary medical care; chronic disease management, including HIV care and treatment, counseling, and mental health; lab work; and dental care to vulnerable and underserved populations. The close proximity, comparable medical services provided, and Waterbury Hospital Health Center's relationship will Staywell Health Care, Inc., will ensure a seamless transition of RWHAP patients served by Waterbury Hospital Health Center. Up to $426,543 will be awarded to Staywell Health Care, Inc., in FY 2017, pending the availability of appropriated funds. Not issuing this award would result in the disruption of comprehensive HIV primary care and support services for low income, underinsured, and uninsured people living with HIV in the service area.

Dated: June 1, 2017.
Dr. George Sigounas,
Administrator.

[FR Doc. 2017-11707 Filed 6-5-17; 8:45 am]

BILLING CODE 4165-15-P